FEDERAL COMMUNICATIONS COMMISSION

[EB Docket No. 06-168; FCC 06-128]

Commercial Radio Service, Inc. and Timothy M. Doty

AGENCY: Federal Communications Commission.

ACTION: Notice.

SUMMARY: This document commences a hearing proceeding by directing Commercial Radio Service, Inc. and Timothy M. Doty to show cause in an adjudicatory hearing before an administrative law judge why their respective authorizations in the wireless services should not be revoked on issues relating to their basic qualifications to be and remain Commission licensees. The hearing will be held at a time and place to be specified in a subsequent order.

DATES: Persons desiring to participate as parties in the hearing (other than Commercial Radio Service, Inc. and Timothy Doty, both of whom are already specified as parties in the hearing) shall file a petition for leave to intervene not later than October 20, 2006.

ADDRESSES: Please file documents with the Office of the Secretary, Federal Communications Commission, 445 12th Street, SW., Washington, DC 20554. Each document that is filed in this proceeding must display on the front page the docket number of this hearing, “EB Docket No. 06-168.”

FOR FURTHER INFORMATION CONTACT: Gary Schonman, Special Counsel, Investigations and Hearings Division, Enforcement Bureau, Federal Communications Commission, Washington, DC 20554. Tel. 202-418-1420.

SUPPLEMENTARY INFORMATION: This is a summary of the Order to Show Cause, FCC 06-128, released August 30, 2006. The full text of the Order to Show Cause is available for inspection and copying from 8 a.m. to 4:30 p.m., Monday through Thursday, or from 8 a.m. to 11:30 a.m., on Friday, at the FCC Reference Information Center, Room CY-A257, 445 12th Street, SW., Washington, DC 20554. The complete text may be purchased from the Commission's copy contractor, Best Copy and Printing, Inc. (BCPI), Portals II, 445 12th Street, SW., Room CY-B402, Washington, DC 20554, telephone 202-488-5300, facsimile 202-488-5563, or you may contact BCPI at its Web site: http://www.BCPIWEB.com. When ordering documents for BCPI, please provide the appropriate FCC document number, FCC 06-124. The Order also is available on the Internet at the Commission's Web site through its Electronic Document Management System (EDOCS). The Commission's Internet address for EDOCS is: http://hraunfoss.fcc.gov/edocs_public/SilverStream/Pages/edocs.html. Alternative formats are available to persons with disabilities (Braille, large print, electronic files, audio format). Send an e-mail to fcc504@fcc.gov or call the Consumer and Governmental Affairs Bureau at 202-418-0530 (voice), (202) 418-0432 (tty).

Summary of the Order: In the Order to Show Cause the Commission commences a hearing proceeding before an administrative law judge to determine whether Commercial Radio Service, Inc. (“CRS”) and Timothy M. Doty (“Doty”) are qualified to be and remain Commission licensees and, if not, whether their respective authorizations should be revoked. The Order to Show Cause also inquires whether a monetary forfeiture should be assessed against CRS.

CRS is the licensee of one commercial and four private land mobile stations. Doty, a principal in CRS, holds, in his individual capacity, a General Radiotelephone Operator License and an Amateur Radio License. Doty has twice been convicted of felonies in State and Federal courts. Subsequent to the first of Doty's felony convictions, CRS filed at least two license applications with the Commission in which CRS answered “No” to the question inquiring whether the applicant or any party directly or indirectly controlling the applicant had ever been convicted of a felony in State or Federal court. Subsequent to the second of Doty's felony convictions, CRS filed at least five license renewal-only applications with the Commission. By filing renewal-only applications rather than renewal/modification applications, CRS failed to provide information to the Commission about Doty's felony convictions that it was otherwise required to disclose. In each of the applications discussed above, CRS certified that all of the statements therein were true, complete, correct, and made in good faith.

The Commission determined that Doty's felony convictions and CRS” apparent failures to inform the Commission about such felonies in license applications filed with the Commission raise substantial and material questions as to their qualifications to be and to remain Commission licensees. Thus, pursuant to sections 312 of the Communications Act of 1934, as amended, 47 U.S.C. 312, and § 1.91 of the Commission's rules, 47 CFR 1.91, the Order to Show Cause directs CRS and Doty to show cause why their respective licenses should not be revoked, upon the following issues:

1. To determine the effect of Mr. Doty's felony convictions on his qualifications to be and to remain a Commission licensee;

2. To determine the effect of Mr. Doty's felony convictions on the qualifications of CRS to be and to remain a Commission licensee;

3. To determine whether CRS made misrepresentations and/or lacked candor and/or violated Section 1.17 of the Commission's rules regarding the felony convictions of Mr. Doty in any applications filed with the Commission;

4. To determine whether CRS failed to timely amend Commission applications to disclose Mr. Doty's felony convictions, in violation of Section 1.65 of the Commission's rules;

5. To determine whether CRS made false certifications in any applications filed with the Commission;

6. To determine, in light of the evidence adduced pursuant to the foregoing issues, whether Mr. Doty is qualified to be and to remain a Commission licensee;

7. To determine, in light of the evidence adduced pursuant to the foregoing issues, whether CRS is qualified to be and to remain a Commission licensee;

8. To determine, in light of the evidence adduced pursuant to the foregoing issues, whether the above-captioned licenses of Mr. Doty should be revoked;

9. To determine, in light of the evidence adduced pursuant to the foregoing issues (1) through (7), whether the above-captioned licenses of CRS should be revoked.

The Order to Show Cause also directs that, irrespective of the resolution of the foregoing issues, it shall be determined, pursuant to section 503 of the Communications Act of 1934, as amended, 47 U.S.C 503, whether an Order of Forfeiture in the amount not to exceed $11,000 for each violation or each day of a continuing violation, up to a total of $97,500 for any single act or failure to act should be issued against CRS for having failed to disclose Doty's felony convictions in one or more of its applications, in willful and/or repeated violation of §§ 1.17 and 1.65 of the Commission's rules, 47 CFR 1.17 and 1.65.

The hearing will be held at a time and place to be specified in a subsequent order.

Copies of the Order to Show Cause are being sent by Certified Mail, Return Receipt Requested, to CRS, Doty, and counsel for CRS.

To avail themselves of the opportunity to be heard and the right to present evidence in the hearing in this proceeding, pursuant to section 312 of the Communications Act of 1934, as amended, 47 U.S.C. 312, and § 1.91 of the Commission's Rules, 47 CFR 1.91, an officer representative of CRS and Timothy M. Doty, in person or by their respective attorneys, must file with the Commission, not later than September 29, 2006, a written appearance in triplicate stating that they will appear on the date fixed for hearing and present evidence on the issues specified herein.

Federal Communications Commission.
Marlene H. Dortch,
Secretary.

[FR Doc. 06-7906 Filed 9-19-06; 8:45 am]

BILLING CODE 6712-01-P